DEPARTMENT OF ENERGY

Federal Energy Regulatory Commission

[Docket No. EL19-102-000]

Wolverine Power Supply Cooperative, Inc. v. Midcontinent Independent System Operator, Inc.; Notice of Complaint

Take notice that on September 27, 2019, pursuant to sections 206 and 306 of the Federal Power Act, 16 U.S.C. 824e and 825e and Rule 206 of the Federal Energy Regulatory Commission's (Commission) Rules of Practice and Procedure, 18 CFR 385.206, Wolverine Power Supply Cooperative, Inc. (Complainant) filed a formal complaint against Midcontinent Independent System Operator, Inc., (Respondent or MISO) alleging that, Respondent's rules governing the Planning Resource Auction (PRA) is unjust and unreasonable because the PRA fails to establish an appropriate forward price signal and identify the real cost of maintaining reliability, all as more fully explained in the complaint.

The Complainant certifies that copies of the complaint were served on the contacts listed for Respondent in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on October 17, 2019.

Dated: October 1, 2019.
Kimberly D. Bose,
Secretary.

[FR Doc. 2019-21788 Filed 10-4-19; 8:45 am]

BILLING CODE 6717-01-P